DEPARTMENT OF HEALTH AND HUMAN SERVICES

Centers for Disease Control and Prevention

[30Day-22-22DW]

Agency Forms Undergoing Paperwork Reduction Act Review

In accordance with the Paperwork Reduction Act of 1995, the Centers for Disease Control and Prevention (CDC) has submitted the information collection request titled “Project Firstline Partner Reporting, the assessment of performance and progress data on a new infection control program for frontline healthcare personnel” to the Office of Management and Budget (OMB) for review and approval. CDC previously published a “Proposed Data Collection Submitted for Public Comment and Recommendations” notice on April 8, 2022, to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Project Firstline (PFL) Partner Reporting—New—National Center for Emerging and Zoonotic Infectious Diseases (NCEZID), Centers for Disease Control and Prevention (CDC).

Background and Brief Description

The goal of the Project Firstline (PFL) Partner Reporting project is to collect performance/progress information from PFL national partner organizations to inform development of tailored infection prevention and control (IPC) communications and trainings and resources designed for frontline healthcare personnel (HCP). PFL is a new program and as such, collection of performance/progress data is critical for successful program implementation and ongoing improvement. Gathering data from PFL partners will provide crucial insights into the diverse needs of HCP, gaps in existing CDC training resources, and will help CDC understand the reach and impact of the PFL initiative. Having this information will allow CDC and partners to monitor progress towards desired outcomes while improving PFL outreach and programming based on lessons learned. The PFL collaborative network, data-driven training and education programs, and targeted messaging through digital platforms will help drive behavior change—enhancing the readiness of the nation's frontlines to respond to the current COVID-19 pandemic and future disease outbreaks.

To fulfill the data requested by CDC for training activities, partner organizations ask training participants to complete registration for activities and/or evaluations at the end of trainings, and data from these sources are then aggregated and submitted to CDC along with descriptive information about the training topic and approach. The partner organizations also collect and submit data on communications activities occurring through email, social media, websites, and podcasts to promote the trainings. The total estimated annualized burden is 502 hours.

Estimated Annualized Burden Hours
Type of respondents | Form name | Number of respondents | Number of responses per respondent | Average burden per response (in hours)
National Partner Organization | Communications Reporting | 11 | 12 | 1
National Partner Organization | Training Reporting | 11 | 12 | 15/60
Training Participants | Training Evaluation Form | 4,059 | 1 | 5/60

Jeffrey M. Zirger,
Lead, Information Collection Review Office, Office of Scientific Integrity, Office of Science, Centers for Disease Control and Prevention.

[FR Doc. 2022-17355 Filed 8-11-22; 8:45 am]

BILLING CODE 4163-18-P